ENVIRONMENTAL PROTECTION AGENCY

[FRL-7596-1]

Notice of Proposed Settlement Under Section 122(h)(1) of the Comprehensive Environmental Response, Compensation and Liability Act; In the Matter of American Woodcraft Superfund Site

AGENCY: Environmental Protection Agency.

ACTION: Notice, request for public comment.

SUMMARY: Notice of Settlement: in accordance with section 122(i)(1) of the Comprehensive Environmental Response, Compensation and Liability Act of 1980, as amended (“CERCLA”), notice is hereby given of a settlement concerning past response costs at the American Woodcraft Superfund Site, in Union City, Michigan. This settlement requires Comerica Bank to pay $13,837.64 to the Hazardous Substances Superfund.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Superfund Records Center, located at 77 West Jackson Boulevard, Seventh Floor, Chicago, Illinois.

DATES: Comments must be provided on or before January 16, 2004.

ADDRESSES: The proposed settlement and additional background information relating to the settlement are available for public inspection at the Superfund Records Center, located at 77 West Jackson Boulevard, Seventh Floor, Chicago, Illinois 60604. A copy of the proposed settlement may be obtained from the Superfund Records Center. Comments should reference the American Woodcraft Superfund Site and EPA Docket No. V-W-04-C-765 and should be addressed to Karen L. Peaceman, Associate Regional Counsel, 77 West Jackson Boulevard (C-14J), Chicago, Illinois 60604.

FOR FURTHER INFORMATION CONTACT: Karen L. Peaceman, 312-353-5751. Mail Code C-14J, U.S. Environmental Protection Agency, 77 West Jackson Boulevard, Chicago, Illinois 60604.

Authority: The Comprehensive Environmental Response, Compensation, and Liability Act of 1980, as amended, 42 U.S.C. 9601 et seq.

Thomas W. Mateer,
Acting Director, Superfund Division.

[FR Doc. 03-31119 Filed 12-16-03; 8:45 am]

BILLING CODE 6560-50-P